COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products to the Procurement List that will be furnished by nonprofit agencies employing persons who are blind or have other severe disabilities, and deletes products previously furnished by such agencies.

Comments Must Be Received on or Before: 3/27/2016.

ADDRESSES: Committee for Purchase From People Who Are Blind or Severely Disabled, 1401 S. Clark Street, Suite 715, Arlington, Virginia, 22202-4149.

For Further Information or To Submit Comments Contact: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN—Product Name: MR 10659—Container Set, Soup and Salad, includes Shipper 20659

Mandatory Source of Supply: Winston-Salem Industries for the Blind, Inc., Winston-Salem, NC

NSN—Product Name: MR 849—Whisk, Wire Looped

Mandatory Source of Supply: Cincinnati Association for the Blind, Cincinnati, OH

NSN—Product Name: MR 753—Pillow, Jumbo

Mandatory Source of Supply: Georgia Industries for the Blind, Bainbridge, GA

NSN—Product Name: MR 1188—MR Towel Set, Christmas, includes Shipper 11188

Mandatory Source of Supply: Alphapointe, Kansas City, MO

Mandatory for: The requirements of military commissaries and exchanges in accordance with the Code of Federal Regulations, Chapter 51, 51-6.4.

Contracting Activity: Defense Commissary Agency, Fort Lee, VA

Distribution: C-List

Deletions

The following products are proposed for deletion from the Procurement List:

Products

NSNs—Product Names

MR 523—Candle, Air Freshening, Potpourri

MR 524—Candle, Air Freshening, Dewdrop

MR 525—Candle, Air Freshening, Rose

MR 526—Candle, Air Freshening, Mulberry

MR 528—Candle, Air Freshening, Wildflower

MR 529—Candle with Glass Holder

MR 531—Candle, Air Freshening, Peach

Mandatory Source of Supply: South Texas Lighthouse for the Blind, Corpus Christi, TX

MR 808—Spoon, Basting, SS Trim

MR 811—Fork, Serving, SS Trim

MR 824—Mandolin Slicer

MR 987—Towel, Super Absorbent, Orange, 20″ x 23″, 3 Pack

Mandatory Source of Supply: Industries for the Blind, Inc., West Allis, WI

MR 1049—Amazing Mop, Microfiber, 16″

MR 1059—Refill, Amazing Mop, Microfiber, 16″

Mandatory Source of Supply: Alphapointe, Kansas City, MO

MR 3209—Ouchless Latex Elastic, Goody Hair Care Products

Mandatory Source of Supply: Association for Vision Rehabilitation and Employment, Inc., Binghamton, NY

Contracting Activity: Defense Commissary Agency, Fort Lee, VA

NSNs—Product Names

6515-01-466-2710—Combat Arms Ear Plug, Dual Ended, Universal Size

6515-00-SAM-0016—Combat Arms Ear Plug, Dual Ended

Mandatory Source of Supply: Access: Supports for Living Inc., Middletown, NY

Contracting Activity: Defense Logistics Agency Troop Support, Philadelphia, PA

Patricia Briscoe,
Deputy Director, Business Operations, (Pricing and Information Management).

[FR Doc. 2016-04174 Filed 2-25-16; 8:45 am]

BILLING CODE 6353-01-P